DEPARTMENT OF COMMERCE

National Oceanic and Atmospheric Administration

RIN 0648-XC518

Endangered Species; File No. 17506

AGENCY: National Marine Fisheries Service (NMFS), National Oceanic and Atmospheric Administration (NOAA), Commerce.

ACTION: Issuance of permit.

SUMMARY: Notice is hereby given that Karen G. Holloway-Adkins, East Coast Biologists, Inc. P.O. Box 33715, Indialantic, FL 32903 has been issued a permit to take green (Chelonia mydas), loggerhead (Caretta caretta), hawksbill (Eretmochelys imbricata), Kemp's ridley (Lepidochelys kempii), and leatherback (Dermochelys coriaceae) sea turtles for purposes of scientific research.

ADDRESSES: The permit and related documents are available for review upon written request or by appointment in the following offices:

Permits and Conservation Division, Office of Protected Resources, NMFS, 1315 East-West Highway, Room 13705, Silver Spring, MD 20910; phone (301) 427-8401; fax (301) 713-0376; and

Southeast Region, NMFS, 263 13th Ave South, St. Petersburg, FL 33701; phone (727) 824-5312; fax (727) 824-5309.

FOR FURTHER INFORMATION CONTACT: Amy Hapeman or Colette Cairns, (301) 427-8401.

SUPPLEMENTARY INFORMATION: On February 28, 2013, notice was published in the Federal Register (78 FR 13642) that a request for a scientific research permit to take green, loggerhead, hawksbill, Kemp's ridley, and leatherback sea turtles had been submitted by the above-named individual. The requested permit has been issued under the authority of the Endangered Species Act of 1973, as amended (ESA; 16 U.S.C. 1531 et seq.) and the regulations governing the taking, importing, and exporting of endangered and threatened species (50 CFR parts 222-226).

Ms. Holloway-Adkins has been issued a 5-year research permit to continue to characterize the population of sea turtles that utilize the nearshore hard bottom reefs in Brevard County, FL. Green and loggerhead sea turtles would be captured, flipper and passive integrated transponder tagged, measured, weighed, tissue and blood sampled and photographed before release. A subset of green sea turtles may be stomach lavaged or have an acoustic transmitter attached to the carapace for tracking movements. Researchers are also authorized to count all sea turtle species during vessel surveys in the nearshore waters of Florida and Georgia.

Issuance of this permit, as required by the ESA, was based on a finding that such permit (1) Was applied for in good faith, (2) will not operate to the disadvantage of such endangered or threatened species, and (3) is consistent with the purposes and policies set forth in section 2 of the ESA.

Dated: June 25, 2013.
P. Michael Payne,
Chief, Permits and Conservation Division, Office of Protected Resources, National Marine Fisheries Service.

[FR Doc. 2013-15503 Filed 6-27-13; 8:45 am]

BILLING CODE 3510-22-P